DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule; annual update to fee schedule.

SUMMARY: In accordance with of the Commission's regulations, the Commission, by its designee, the Executive Director, issues this annual update to the fee schedule in the appendix to the part, which lists per-acre rental fees by county (or other geographic area) for use of government lands by hydropower licensees.

DATES: This rule is effective March 7, 2017. Updates to appendix A to part 11 with the fee schedule of per-acre rental fees by county (or other geographic area) are applicable from October 1, 2016, through September 30, 2017 (Fiscal Year 2017).

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in appendix A to part 11 of the Commission's regulations.² This document updates the fee schedule in appendix A to part 11 for fiscal year 2017 (October 1, 2016, through September 30, 2017).

¹ Annual Charges for the Use of Government Lands, Order No. 774, 78 FR 5256 (January 25, 2013), FERC Stats. & Regs. ¶ 31,341 (2013).

² 18 CFR part 11 (2016).

Effective Date

This Final Rule is effective March 7, 2017. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Issued: February 28, 2017.
Anton C. Porter,
Executive Director, Office of the Executive Director.

In consideration of the foregoing, the Commission amends part 11, chapter I, title 18, Code of Federal Regulations, as follows.

PART 11—[AMENDED]

1. The authority citation for part 11 continues to read as follows:

Authority: 16 U.S.C. 792-828c; 42 U.S.C. 7101-7352.

2. Appendix A to part 11 is revised to read as follows:

Appendix A to Part 11—Fee Schedule for FY 2017

State | County | Fee/ acre/ yr
Alabama | Autauga | $61.69
| Baldwin | 107.46
| Barbour | 61.05
| Bibb | 56.63
| Blount | 98.07
| Bullock | 58.79
| Butler | 65.57
| Calhoun | 82.25
| Chambers | 70.27
| Cherokee | 92.30
| Chilton | 79.18
| Choctaw | 50.56
| Clarke | 55.21
| Clay | 66.79
| Cleburne | 74.11
| Coffee | 71.18
| Colbert | 76.14
| Conecuh | 53.76
| Coosa | 55.96
| Covington | 60.88
| Crenshaw | 54.77
| Cullman | 112.76
| Dale | 67.77
| Dallas | 49.54
| DeKalb | 102.33
| Elmore | 85.72
| Escambia | 61.32
| Etowah | 96.08
| Fayette | 57.34
| Franklin | 56.80
| Geneva | 58.35
| Greene | 54.81
| Hale | 56.46
| Henry | 60.34
| Houston | 70.30
| Jackson | 70.54
| Jefferson | 121.70
| Lamar | 39.89
| Lauderdale | 80.19
| Lawrence | 82.58
| Lee | 101.92
| Limestone | 109.82
| Lowndes | 46.61
| Macon | 66.35
| Madison | 100.30
| Marengo | 48.13
| Marion | 59.97
| Marshall | 102.36
| Mobile | 109.68
| Monroe | 53.12
| Montgomery | 70.84
| Morgan | 100.77
| Perry | 47.38
| Pickens | 55.82
| Pike | 61.49
| Randolph | 75.87
| Russell | 61.05
| St. Clair | 113.36
| Shelby | 103.64
| Sumter | 38.41
| Talladega | 78.53
| Tallapoosa | 65.17
| Tuscaloosa | 80.05
| Walker | 69.59
| Washington | 45.59
| Wilcox | 45.43
| Winston | 70.23
Alaska ¹ | Aleutian Islands Area ¹ |
| Anchorage Area ¹ |
| Fairbanks Area ¹ |
| Juneau Area ¹ |
| Kenai Peninsula ¹ |
| All Areas ¹ |
Arizona | Apache | 3.05
| Cochise | 22.17
| Coconino | 3.30
| Gila | 5.18
| Graham | 9.14
| Greenlee | 24.70
| La Paz | 20.33
| Maricopa | 89.60
| Mohave | 7.63
| Navajo | 4.09
| Pima | 8.25
| Pinal | 37.64
| Santa Cruz | 24.17
| Yavapai | 24.94
| Yuma | 114.25
Arkansas | Arkansas | 57.00
| Ashley | 62.42
| Baxter | 57.32
| Benton | 95.30
| Boone | 55.28
| Bradley | 75.05
| Calhoun | 52.83
| Carroll | 54.63
| Chicot | 57.27
| Clark | 39.70
| Clay | 68.71
| Cleburne | 58.82
| Cleveland | 83.70
| Columbia | 46.36
| Conway | 55.60
| Craighead | 68.92
| Crawford | 64.49
| Crittenden | 59.68
| Cross | 54.63
| Dallas | 34.38
| Desha | 59.92
| Drew | 54.15
| Faulkner | 70.45
| Franklin | 48.94
| Fulton | 34.41
| Garland | 79.24
| Grant | 48.40
| Greene | 73.44
| Hempstead | 44.00
| Hot Spring | 55.17
| Howard | 50.66
| Independence | 44.99
| Izard | 37.95
| Jackson | 54.07
| Jefferson | 62.32
| Johnson | 51.68
| Lafayette | 43.46
| Lawrence | 57.43
| Lee | 60.09
| Lincoln | 60.06
| Little River | 36.13
| Logan | 48.27
| Lonoke | 59.76
| Madison | 58.39
| Marion | 43.27
| Miller | 42.68
| Mississippi | 61.21
| Monroe | 51.65
| Montgomery | 53.85
| Nevada | 40.77
| Newton | 47.41
| Ouachita | 47.86
| Perry | 52.38
| Phillips | 56.08
| Pike | 45.82
| Poinsett | 65.94
| Polk | 56.97
| Pope | 58.98
| Prairie | 53.75
| Pulaski | 73.87
| Randolph | 43.30
| St. Francis | 75.61
| Saline | 47.22
| Scott | 35.83
| Searcy | 57.21
| Sebastian | 50.17
| Sevier | 39.05
| Sharp | 50.85
| Stone | 41.93
| Union | 54.45
| Van Buren | 53.32
| Washington | 88.34
| White | 55.25
| Woodruff | 53.61
| Yell | 48.80
California | Alameda | 44.73
| Alpine | 34.77
| Amador | 31.89
| Butte | 61.60
| Calaveras | 26.45
| Colusa | 44.03
| Contra Costa | 68.30
| Del Norte | 70.66
| El Dorado | 66.69
| Fresno | 67.17
| Glenn | 37.23
| Humboldt | 20.94
| Imperial | 56.76
| Inyo | 6.31
| Kern | 35.95
| Kings | 48.89
| Lake | 49.36
| Lassen | 15.62
| Los Angeles | 100.99
| Madera | 61.72
| Marin | 50.49
| Mariposa | 17.05
| Mendocino | 32.53
| Merced | 62.72
| Modoc | 13.95
| Mono | 22.84
| Monterey | 39.66
| Napa | 176.73
| Nevada | 87.82
| Orange | 177.15
| Placer | 86.44
| Plumas | 14.40
| Riverside | 82.79
| Sacramento | 57.84
| San Benito | 23.05
| San Bernardino | 109.07
| San Diego | 145.62
| San Francisco | 1,022.29
| San Joaquin | 81.79
| San Luis Obispo | 34.15
| San Mateo | 91.59
| Santa Barbara | 59.70
| Santa Clara | 54.41
| Santa Cruz | 100.44
| Shasta | 22.71
| Sierra | 12.19
| Siskiyou | 16.53
| Solano | 45.05
| Sonoma | 118.51
| Stanislaus | 78.11
| Sutter | 53.65
| Tehama | 24.14
| Trinity | 9.24
| Tulare | 61.08
| Tuolumne | 37.54
| Ventura | 126.63
| Yolo | 45.74
| Yuba | 46.96
Colorado | Adams | 25.67
| Alamosa | 26.05
| Arapahoe | 30.11
| Archuleta | 38.38
| Baca | 9.94
| Bent | 8.31
| Boulder | 102.13
| Broomfield | 35.03
| Chaffee | 54.04
| Cheyenne | 13.89
| Clear Creek | 49.03
| Conejos | 27.12
| Costilla | 19.64
| Crowley | 6.12
| Custer | 27.21
| Delta | 59.31
| Denver | 969.09
| Dolores | 25.78
| Douglas | 89.76
| Eagle | 70.39
| Elbert | 21.58
| El Paso | 20.04
| Fremont | 41.80
| Garfield | 49.64
| Gilpin | 50.62
| Grand | 40.86
| Gunnison | 50.35
| Hinsdale | 94.58
| Huerfano | 15.44
| Jackson | 18.63
| Jefferson | 98.16
| Kiowa | 12.20
| Kit Carson | 20.24
| Lake | 33.20
| La Plata | 52.12
| Larimer | 55.09
| Las Animas | 7.24
| Lincoln | 8.53
| Logan | 15.53
| Mesa | 60.18
| Mineral | 77.60
| Moffat | 13.05
| Montezuma | 19.79
| Montrose | 51.31
| Morgan | 25.49
| Otero | 11.66
| Ouray | 50.75
| Park | 23.79
| Phillips | 32.35
| Pitkin | 100.03
| Prowers | 12.29
| Pueblo | 13.11
| Rio Blanco | 23.75
| Rio Grande | 42.24
| Routt | 39.63
| Saguache | 26.56
| San Juan | 22.87
| San Miguel | 26.05
| Sedgwick | 22.72
| Summit | 59.40
| Teller | 35.85
| Washington | 17.47
| Weld | 35.36
| Yuma | 24.48
Connecticut | Fairfield | 313.45
| Hartford | 326.36
| Litchfield | 294.19
| Middlesex | 363.23
| New Haven | 324.20
| New London | 266.64
| Tolland | 256.19
| Windham | 196.86
Delaware | Kent | 214.78
| New Castle | 266.77
| Sussex | 210.85
Florida | Alachua | 102.61
| Baker | 123.58
| Bay | 98.99
| Bradford | 79.71
| Brevard | 103.21
| Broward | 436.87
| Calhoun | 40.49
| Charlotte | 96.61
| Citrus | 126.23
| Clay | 67.10
| Collier | 85.45
| Columbia | 86.48
| DeSoto | 484.65
| Dixie | 89.53
| Duval | 75.16
| Escambia | 132.21
| Flagler | 93.03
| Franklin | 80.81
| Gadsden | 37.03
| Gilchrist | 84.45
| Glades | 63.53
| Gulf | 58.26
| Hamilton | 79.76
| Hardee | 55.02
| Hendry | 78.64
| Hernando | 77.35
| Highlands | 160.02
| Hillsborough | 56.00
| Holmes | 172.58
| Indian River | 53.81
| Jackson | 73.51
| Jefferson | 64.20
| Lafayette | 80.31
| Lake | 78.61
| Lee | 143.72
| Leon | 180.82
| Levy | 104.87
| Liberty | 113.86
| Madison | 51.57
| Manatee | 64.20
| Marion | 106.57
| Martin | 178.29
| Dade | 125.46
| Monroe | 361.78
| Nassau | 91.24
| Okaloosa | 69.15
| Okeechobee | 87.55
| Orange | 159.47
| Osceola | 75.25
| Palm Beach | 135.16
| Pasco | 128.92
| Pinellas | 574.63
| Polk | 104.47
| Putnam | 105.40
| St. Johns | 150.08
| St. Lucie | 124.99
| Santa Rosa | 90.70
| Sarasota | 67.46
| Seminole | 91.77
| Sumter | 101.99
| Suwannee | 76.52
| Taylor | 72.54
| Union | 68.13
| Volusia | 117.00
| Wakulla | 66.77
| Walton | 54.83
| Washington | 54.78
Georgia | Appling | 60.49
| Atkinson | 68.96
| Bacon | 74.84
| Baker | 70.93
| Baldwin | 63.24
| Banks | 141.95
| Barrow | 141.92
| Bartow | 114.47
| Ben Hill | 65.53
| Berrien | 68.54
| Bibb | 84.43
| Bleckley | 60.14
| Brantley | 74.74
| Brooks | 85.33
| Bryan | 75.77
| Bulloch | 62.56
| Burke | 58.20
| Butts | 90.02
| Calhoun | 56.62
| Camden | 56.33
| Candler | 61.56
| Carroll | 114.59
| Catoosa | 146.47
| Charlton | 52.71
| Chatham | 133.39
| Chattahoochee | 53.74
| Chattooga | 79.55
| Cherokee | 245.11
| Clarke | 145.92
| Clay | 42.73
| Clayton | 143.99
| Clinch | 70.02
| Cobb | 316.14
| Coffee | 68.02
| Colquitt | 75.90
| Columbia | 126.87
| Cook | 71.09
| Coweta | 127.71
| Crawford | 79.68
| Crisp | 54.00
| Dade | 81.71
| Dawson | 201.09
| Decatur | 73.83
| DeKalb | 71.83
| Dodge | 56.91
| Dooly | 60.59
| Dougherty | 84.69
| Douglas | 170.31
| Early | 55.49
| Echols | 68.18
| Effingham | 71.80
| Elbert | 91.40
| Emanuel | 55.10
| Evans | 66.86
| Fannin | 168.08
| Fayette | 157.87
| Floyd | 100.71
| Forsyth | 284.10
| Franklin | 139.85
| Fulton | 175.19
| Gilmer | 158.68
| Glascock | 47.74
| Glynn | 101.35
| Gordon | 123.96
| Grady | 79.52
| Greene | 83.36
| Gwinnett | 267.04
| Habersham | 148.48
| Hall | 212.20
| Hancock | 88.47
| Haralson | 108.85
| Harris | 124.09
| Hart | 133.88
| Heard | 89.72
| Henry | 148.18
| Houston | 80.04
| Irwin | 65.69
| Jackson | 143.11
| Jasper | 89.47
| Jeff Davis | 85.82
| Jefferson | 51.61
| Jenkins | 48.54
| Johnson | 46.41
| Jones | 82.07
| Lamar | 99.16
| Lanier | 88.05
| Laurens | 53.00
| Lee | 74.35
| Liberty | 54.58
| Lincoln | 71.64
| Long | 63.63
| Lowndes | 91.40
| Lumpkin | 232.39
| McDuffie | 58.04
| McIntosh | 74.06
| Macon | 66.70
| Madison | 66.21
| Marion | 145.12
| Meriwether | 81.94
| Miller | 63.69
| Mitchell | 73.90
| Monroe | 88.11
| Montgomery | 44.64
| Morgan | 112.95
| Murray | 110.78
| Muscogee | 132.75
| Newton | 109.14
| Oconee | 186.62
| Oglethorpe | 83.68
| Paulding | 169.08
| Peach | 103.32
| Pickens | 173.51
| Pierce | 61.53
| Pike | 94.31
| Polk | 93.18
| Pulaski | 67.63
| Putnam | 98.25
| Quitman | 55.10
| Rabun | 182.87
| Randolph | 50.00
| Richmond | 68.47
| Rockdale | 180.42
| Schley | 58.72
| Screven | 55.13
| Seminole | 69.83
| Spalding | 135.10
| Stephens | 136.23
| Stewart | 50.71
| Sumter | 58.49
| Talbot | 53.84
| Taliaferro | 56.91
| Tattnall | 71.77
| Taylor | 52.32
| Telfair | 49.16
| Terrell | 61.08
| Thomas | 86.40
| Tift | 82.07
| Toombs | 61.27
| Towns | 152.77
| Treutlen | 46.35
| Troup | 102.87
| Turner | 61.59
| Twiggs | 64.63
| Union | 155.42
| Upson | 81.65
| Walker | 100.96
| Walton | 138.69
| Ware | 63.76
| Warren | 52.16
| Washington | 53.42
| Wayne | 70.96
| Webster | 45.80
| Wheeler | 38.56
| White | 177.41
| Whitfield | 125.22
| Wilcox | 63.01
| Wilkes | 71.77
| Wilkinson | 55.13
| Worth | 66.76
Hawaii | Hawaii | 166.17
| Honolulu | 419.77
| Kauai | 158.16
| Maui | 204.70
Idaho | Ada | 61.64
| Adams | 17.77
| Bannock | 21.11
| Bear Lake | 16.60
| Benewah | 18.54
| Bingham | 26.10
| Blaine | 33.37
| Boise | 16.57
| Bonner | 50.99
| Bonneville | 27.07
| Boundary | 39.94
| Butte | 17.99
| Camas | 17.33
| Canyon | 62.28
| Caribou | 16.37
| Cassia | 27.36
| Clark | 17.01
| Clearwater | 21.99
| Custer | 26.89
| Elmore | 23.90
| Franklin | 23.45
| Fremont | 26.07
| Gem | 32.25
| Gooding | 44.73
| Idaho | 16.29
| Jefferson | 30.60
| Jerome | 44.85
| Kootenai | 48.34
| Latah | 21.05
| Lemhi | 25.96
| Lewis | 16.38
| Lincoln | 30.66
| Madison | 38.70
| Minidoka | 40.50
| Nez Perce | 19.65
| Oneida | 13.87
| Owyhee | 14.34
| Payette | 35.29
| Power | 17.66
| Shoshone | 69.84
| Teton | 38.45
| Twin Falls | 36.09
| Valley | 28.88
| Washington | 11.66
Illinois | Adams | 135.05
| Alexander | 90.39
| Bond | 176.88
| Boone | 187.23
| Brown | 109.01
| Bureau | 200.46
| Calhoun | 103.92
| Carroll | 186.92
| Cass | 152.89
| Champaign | 217.64
| Christian | 207.12
| Clark | 134.30
| Clay | 130.23
| Clinton | 159.86
| Coles | 192.73
| Cook | 286.26
| Crawford | 136.62
| Cumberland | 148.72
| DeKalb | 196.49
| De Witt | 214.67
| Douglas | 208.01
| DuPage | 189.93
| Edgar | 179.54
| Edwards | 110.00
| Effingham | 158.46
| Fayette | 121.82
| Ford | 207.26
| Franklin | 101.39
| Fulton | 143.49
| Gallatin | 120.12
| Greene | 154.12
| Grundy | 208.25
| Hamilton | 98.96
| Hancock | 156.54
| Hardin | 96.67
| Henderson | 169.22
| Henry | 186.75
| Iroquois | 185.93
| Jackson | 107.64
| Jasper | 138.50
| Jefferson | 98.52
| Jersey | 161.19
| Jo Daviess | 132.73
| Johnson | 82.63
| Kane | 242.59
| Kankakee | 180.77
| Kendall | 237.36
| Knox | 187.74
| Lake | 215.70
| La Salle | 284.21
| Lawrence | 133.89
| Lee | 206.88
| Livingston | 196.49
| Logan | 196.36
| McDonough | 214.12
| McHenry | 169.97
| McLean | 174.45
| Macon | 114.85
| Macoupin | 189.28
| Madison | 159.82
| Marion | 97.80
| Marshall | 192.12
| Mason | 220.62
| Massac | 223.62
| Menard | 172.88
| Mercer | 166.01
| Monroe | 141.58
| Montgomery | 162.83
| Morgan | 182.69
| Moultrie | 210.16
| Ogle | 189.52
| Peoria | 189.18
| Perry | 111.30
| Piatt | 236.58
| Pike | 134.40
| Pope | 71.22
| Pulaski | 109.97
| Putnam | 172.06
| Randolph | 121.89
| Richland | 120.15
| Rock Island | 170.45
| St. Clair | 115.30
| Saline | 201.41
| Sangamon | 119.67
| Schuyler | 159.14
| Scott | 165.05
| Shelby | 172.61
| Stark | 203.33
| Stephenson | 185.93
| Tazewell | 203.36
| Union | 96.91
| Vermilion | 192.53
| Wabash | 145.20
| Warren | 189.21
| Washington | 141.61
| Wayne | 122.20
| White | 122.54
| Whiteside | 187.03
| Will | 214.12
| Williamson | 120.49
| Winnebago | 173.02
| Woodford | 211.87
Indiana | Adams | 158.29
| Allen | 168.67
| Bartholomew | 160.58
| Benton | 176.42
| Blackford | 115.50
| Boone | 168.60
| Brown | 109.35
| Carroll | 186.50
| Cass | 147.87
| Clark | 115.50
| Clay | 119.05
| Clinton | 182.29
| Crawford | 69.97
| Daviess | 177.00
| Dearborn | 111.23
| Decatur | 145.38
| DeKalb | 120.99
| Delaware | 144.80
| Dubois | 122.19
| Elkhart | 220.41
| Fayette | 126.97
| Floyd | 145.65
| Fountain | 131.07
| Franklin | 125.06
| Fulton | 137.25
| Gibson | 145.58
| Grant | 152.41
| Greene | 107.71
| Hamilton | 175.60
| Hancock | 156.20
| Harrison | 100.57
| Hendricks | 159.38
| Henry | 135.30
| Howard | 173.55
| Huntington | 148.96
| Jackson | 125.20
| Jasper | 167.54
| Jay | 179.36
| Jefferson | 96.71
| Jennings | 106.45
| Johnson | 166.41
| Knox | 154.26
| Kosciusko | 160.27
| LaGrange | 203.47
| Lake | 154.97
| LaPorte | 166.21
| Lawrence | 86.67
| Madison | 164.67
| Marion | 175.46
| Marshall | 142.13
| Martin | 110.31
| Miami | 138.48
| Monroe | 131.99
| Montgomery | 152.58
| Morgan | 134.48
| Newton | 155.01
| Noble | 132.06
| Ohio | 97.26
| Orange | 95.28
| Owen | 92.79
| Parke | 113.89
| Perry | 81.93
| Pike | 116.69
| Porter | 163.72
| Posey | 131.07
| Pulaski | 140.77
| Putnam | 114.68
| Randolph | 138.99
| Ripley | 111.43
| Rush | 166.35
| St. Joseph | 98.11
| Scott | 167.34
| Shelby | 105.73
| Spencer | 167.75
| Starke | 119.73
| Steuben | 122.57
| Sullivan | 114.13
| Switzerland | 96.37
| Tippecanoe | 183.90
| Tipton | 199.54
| Union | 135.37
| Vanderburgh | 115.60
| Vermillion | 129.81
| Vigo | 105.90
| Wabash | 141.18
| Warren | 160.92
| Warrick | 132.67
| Washington | 90.74
| Wayne | 141.45
| Wells | 172.94
| White | 186.80
| Whitley | 140.36
Iowa | Adair | 128.09
| Adams | 117.51
| Allamakee | 116.49
| Appanoose | 81.27
| Audubon | 182.39
| Benton | 197.62
| Black Hawk | 218.15
| Boone | 206.59
| Bremer | 211.14
| Buchanan | 200.74
| Buena Vista | 199.88
| Butler | 186.95
| Calhoun | 210.39
| Carroll | 205.97
| Cass | 149.58
| Cedar | 196.32
| Cerro Gordo | 181.54
| Cherokee | 203.20
| Chickasaw | 195.95
| Clarke | 92.46
| Clay | 202.17
| Clayton | 131.03
| Clinton | 194.44
| Crawford | 189.38
| Dallas | 184.17
| Davis | 80.55
| Decatur | 81.79
| Delaware | 197.28
| Des Moines | 152.59
| Dickinson | 193.31
| Dubuque | 166.79
| Emmet | 199.30
| Fayette | 188.31
| Floyd | 175.24
| Franklin | 181.95
| Fremont | 168.12
| Greene | 190.61
| Grundy | 219.87
| Guthrie | 158.71
| Hamilton | 222.33
| Hancock | 190.47
| Hardin | 202.17
| Harrison | 159.43
| Henry | 134.93
| Howard | 180.48
| Humboldt | 208.81
| Ida | 185.78
| Iowa | 165.69
| Jackson | 145.95
| Jasper | 170.21
| Jefferson | 125.69
| Johnson | 188.01
| Jones | 183.39
| Keokuk | 136.44
| Kossuth | 208.26
| Lee | 116.83
| Linn | 184.04
| Louisa | 157.21
| Lucas | 78.67
| Lyon | 225.72
| Madison | 134.21
| Mahaska | 153.92
| Marion | 122.17
| Marshall | 181.30
| Mills | 172.92
| Mitchell | 201.83
| Monona | 150.33
| Monroe | 86.82
| Montgomery | 153.58
| Muscatine | 172.16
| O'Brien | 233.72
| Osceola | 192.69
| Page | 137.74
| Palo Alto | 205.94
| Plymouth | 201.28
| Pocahontas | 209.02
| Polk | 193.07
| Pottawattamie | 192.52
| Poweshiek | 166.45
| Ringgold | 93.63
| Sac | 203.13
| Scott | 222.23
| Shelby | 185.41
| Sioux | 249.26
| Story | 214.56
| Tama | 178.01
| Taylor | 104.78
| Union | 94.21
| Van Buren | 95.13
| Wapello | 112.93
| Warren | 140.00
| Washington | 167.20
| Wayne | 88.49
| Webster | 201.28
| Winnebago | 184.72
| Winneshiek | 163.13
| Woodbury | 163.54
| Worth | 168.23
| Wright | 197.35
Kansas | Allen | 37.58
| Anderson | 41.92
| Atchison | 57.97
| Barber | 32.70
| Barton | 42.19
| Bourbon | 38.96
| Brown | 88.04
| Butler | 47.37
| Chase | 36.50
| Chautauqua | 31.09
| Cherokee | 50.13
| Cheyenne | 42.62
| Clark | 24.49
| Clay | 56.82
| Cloud | 53.59
| Coffey | 41.08
| Comanche | 24.79
| Cowley | 38.55
| Crawford | 45.08
| Decatur | 41.04
| Dickinson | 54.30
| Doniphan | 96.86
| Douglas | 76.81
| Edwards | 57.43
| Elk | 34.15
| Ellis | 35.86
| Ellsworth | 35.69
| Finney | 38.72
| Ford | 32.77
| Franklin | 62.47
| Geary | 52.18
| Gove | 34.62
| Graham | 35.49
| Grant | 35.86
| Gray | 35.93
| Greeley | 40.03
| Greenwood | 37.91
| Hamilton | 27.22
| Harper | 40.84
| Harvey | 69.17
| Haskell | 37.07
| Hodgeman | 28.93
| Jackson | 47.37
| Jefferson | 60.22
| Jewell | 51.94
| Johnson | 116.81
| Kearny | 34.92
| Kingman | 38.45
| Kiowa | 33.17
| Labette | 40.00
| Lane | 34.62
| Leavenworth | 87.07
| Lincoln | 40.20
| Linn | 47.37
| Logan | 31.76
| Lyon | 41.99
| McPherson | 56.75
| Marion | 72.47
| Marshall | 60.76
| Meade | 32.83
| Miami | 84.27
| Mitchell | 60.29
| Montgomery | 41.65
| Morris | 39.53
| Morton | 22.78
| Nemaha | 75.96
| Neosho | 40.30
| Ness | 28.02
| Norton | 35.66
| Osage | 43.77
| Osborne | 36.87
| Ottawa | 50.67
| Pawnee | 49.05
| Phillips | 33.68
| Pottawatomie | 51.34
| Pratt | 43.06
| Rawlins | 46.93
| Reno | 48.34
| Republic | 71.36
| Rice | 42.99
| Riley | 49.22
| Rooks | 35.32
| Rush | 34.92
| Russell | 30.75
| Saline | 53.19
| Scott | 40.84
| Sedgwick | 63.95
| Seward | 30.98
| Shawnee | 66.98
| Sheridan | 51.64
| Sherman | 45.96
| Smith | 43.67
| Stafford | 47.57
| Stanton | 29.81
| Stevens | 36.91
| Sumner | 48.24
| Thomas | 57.39
| Trego | 35.32
| Wabaunsee | 39.56
| Wallace | 33.95
| Washington | 62.81
| Wichita | 36.54
| Wilson | 38.69
| Woodson | 37.04
| Wyandotte | 129.42
Kentucky | Adair | 69.72
| Allen | 80.48
| Anderson | 84.87
| Ballard | 92.67
| Barren | 80.21
| Bath | 53.14
| Bell | 52.97
| Boone | 168.04
| Bourbon | 115.92
| Boyd | 63.53
| Boyle | 92.73
| Bracken | 57.06
| Breathitt | 38.95
| Breckinridge | 65.33
| Bullitt | 99.27
| Butler | 55.08
| Caldwell | 74.49
| Calloway | 80.82
| Campbell | 119.63
| Carlisle | 77.04
| Carroll | 71.83
| Carter | 47.87
| Casey | 55.32
| Christian | 94.06
| Clark | 89.40
| Clay | 43.37
| Clinton | 70.64
| Crittenden | 58.62
| Cumberland | 46.50
| Daviess | 105.77
| Edmonson | 64.78
| Elliott | 36.97
| Estill | 50.32
| Fayette | 248.18
| Fleming | 57.09
| Floyd | 40.10
| Franklin | 100.33
| Fulton | 95.05
| Gallatin | 82.42
| Garrard | 67.30
| Grant | 83.34
| Graves | 88.31
| Grayson | 61.82
| Green | 61.69
| Greenup | 48.21
| Hancock | 76.60
| Hardin | 95.46
| Harlan | 36.02
| Harrison | 74.35
| Hart | 60.43
| Henderson | 99.44
| Henry | 91.03
| Hickman | 94.78
| Hopkins | 79.05
| Jackson | 49.50
| Jefferson | 235.11
| Jessamine | 149.04
| Johnson | 47.66
| Kenton | 118.74
| Knott | 36.84
| Knox | 47.63
| Larue | 93.21
| Laurel | 93.93
| Lawrence | 38.57
| Lee | 51.81
| Leslie | 118.37
| Letcher | 62.98
| Lewis | 40.00
| Lincoln | 67.78
| Livingston | 57.94
| Logan | 91.20
| Lyon | 55.15
| McCracken | 82.18
| McCreary | 40.38
| McLean | 73.33
| Madison | 83.27
| Magoffin | 137.09
| Marion | 70.20
| Marshall | 83.82
| Martin | 48.75
| Mason | 102.40
| Meade | 88.34
| Menifee | 48.68
| Mercer | 92.02
| Metcalfe | 61.45
| Monroe | 64.24
| Montgomery | 74.69
| Morgan | 34.76
| Muhlenberg | 63.29
| Nelson | 91.58
| Nicholas | 58.79
| Ohio | 66.66
| Oldham | 170.15
| Owen | 62.81
| Owsley | 36.73
| Pendleton | 64.48
| Perry | 32.85
| Pike | 36.32
| Powell | 43.30
| Pulaski | 78.88
| Robertson | 49.23
| Rockcastle | 55.35
| Rowan | 58.08
| Russell | 83.88
| Scott | 124.53
| Shelby | 132.94
| Simpson | 113.37
| Spencer | 85.35
| Taylor | 75.78
| Todd | 100.50
| Trigg | 80.62
| Trimble | 85.96
| Union | 111.77
| Warren | 98.22
| Washington | 69.72
| Wayne | 61.93
| Webster | 86.98
| Whitley | 59.03
| Wolfe | 40.51
| Woodford | 222.10
Louisiana | Acadia | 57.29
| Allen | 54.26
| Ascension | 90.86
| Assumption | 78.69
| Avoyelles | 58.58
| Beauregard | 64.49
| Bienville | 61.42
| Bossier | 86.82
| Caddo | 70.30
| Calcasieu | 66.26
| Caldwell | 63.94
| Cameron | 45.41
| Catahoula | 62.68
| Claiborne | 65.00
| Concordia | 59.58
| De Soto | 69.94
| East Baton Rouge | 148.37
| East Carroll | 70.72
| East Feliciana | 76.98
| Evangeline | 54.77
| Franklin | 58.87
| Grant | 55.10
| Iberia | 80.95
| Iberville | 46.54
| Jackson | 73.07
| Jefferson | 98.22
| Jefferson Davis | 58.68
| Lafayette | 66.23
| Lafourche | 123.17
| La Salle | 55.45
| Lincoln | 85.92
| Livingston | 148.41
| Madison | 63.71
| Morehouse | 61.13
| Natchitoches | 62.68
| Orleans | 399.93
| Ouachita | 75.30
| Plaquemines | 32.60
| Pointe Coupee | 70.85
| Rapides | 65.65
| Red River | 50.45
| Richland | 59.29
| Sabine | 82.11
| St. Bernard | 42.93
| St. Charles | 55.93
| St. Helena | 86.40
| St. James | 90.89
| St. John the Baptist | 75.14
| St. Landry | 62.10
| St. Martin | 63.84
| St. Mary | 64.75
| St. Tammany | 188.88
| Tangipahoa | 106.32
| Tensas | 56.74
| Terrebonne | 57.90
| Union | 75.11
| Vermilion | 67.10
| Vernon | 81.59
| Washington | 91.54
| Webster | 89.92
| West Baton Rouge | 96.83
| West Carroll | 55.13
| West Feliciana | 68.14
| Winn | 62.42
Maine | Androscoggin | 66.12
| Aroostook | 36.81
| Cumberland | 126.56
| Franklin | 56.03
| Hancock | 86.88
| Kennebec | 73.92
| Knox | 97.93
| Lincoln | 89.97
| Oxford | 65.57
| Penobscot | 51.96
| Piscataquis | 44.23
| Sagadahoc | 97.45
| Somerset | 54.64
| Waldo | 48.10
| Washington | 40.33
| York | 125.56
Maryland | Allegany | 93.80
| Anne Arundel | 310.98
| Baltimore | 253.54
| Calvert | 202.41
| Caroline | 164.07
| Carroll | 218.72
| Cecil | 194.85
| Charles | 173.30
| Dorchester | 139.96
| Frederick | 203.99
| Garrett | 113.00
| Harford | 221.95
| Howard | 294.40
| Kent | 182.97
| Montgomery | 273.18
| Prince George's | 211.87
| Queen Anne's | 199.92
| St. Mary's | 146.95
| Somerset | 177.33
| Talbot | 177.60
| Washington | 160.64
| Wicomico | 168.77
| Worcester | 160.37
Massachusetts | Barnstable | 839.31
| Berkshire | 165.33
| Bristol | 343.27
| Dukes | 230.67
| Essex | 490.09
| Franklin | 143.17
| Hampden | 172.83
| Hampshire | 189.98
| Middlesex | 450.40
| Nantucket | 627.50
| Norfolk | 571.45
| Plymouth | 270.92
| Suffolk | 4,825.12
| Worcester | 219.79
Michigan | Alcona | 64.67
| Alger | 54.92
| Allegan | 127.08
| Alpena | 64.54
| Antrim | 95.08
| Arenac | 73.82
| Baraga | 49.02
| Barry | 105.59
| Bay | 106.59
| Benzie | 110.60
| Berrien | 148.34
| Branch | 94.28
| Calhoun | 97.53
| Cass | 105.06
| Charlevoix | 97.73
| Cheboygan | 65.86
| Chippewa | 43.05
| Clare | 75.22
| Clinton | 115.28
| Crawford | 87.75
| Delta | 51.77
| Dickinson | 58.67
| Eaton | 98.76
| Emmet | 83.87
| Genesee | 102.61
| Gladwin | 74.82
| Gogebic | 69.61
| Grand Traverse | 141.48
| Gratiot | 119.65
| Hillsdale | 91.37
| Houghton | 47.03
| Huron | 138.03
| Ingham | 108.21
| Ionia | 110.63
| Iosco | 70.90
| Iron | 52.76
| Isabella | 100.98
| Jackson | 101.41
| Kalamazoo | 123.43
| Kalkaska | 80.75
| Kent | 155.40
| Keweenaw | 66.76
| Lake | 68.91
| Lapeer | 121.31
| Leelanau | 178.59
| Lenawee | 107.65
| Livingston | 128.64
| Luce | 60.89
| Mackinac | 55.12
| Macomb | 146.52
| Manistee | 76.28
| Marquette | 54.06
| Mason | 75.75
| Mecosta | 79.26
| Menominee | 53.23
| Midland | 95.51
| Missaukee | 80.26
| Monroe | 120.78
| Montcalm | 88.51
| Montmorency | 60.29
| Muskegon | 136.10
| Newaygo | 94.38
| Oakland | 227.44
| Oceana | 85.46
| Ogemaw | 70.31
| Ontonagon | 44.94
| Osceola | 67.29
| Oscoda | 69.74
| Otsego | 67.02
| Ottawa | 171.32
| Presque Isle | 56.91
| Roscommon | 69.68
| Saginaw | 101.25
| St. Clair | 116.37
| St. Joseph | 43.08
| Sanilac | 94.91
| Schoolcraft | 99.13
| Shiawassee | 126.12
| Tuscola | 120.52
| Van Buren | 117.93
| Washtenaw | 135.17
| Wayne | 197.46
| Wexford | 75.55
Minnesota | Aitkin | 48.12
| Anoka | 164.69
| Becker | 74.15
| Beltrami | 46.38
| Benton | 93.77
| Big Stone | 106.50
| Blue Earth | 175.06
| Brown | 150.63
| Carlton | 51.12
| Carver | 158.13
| Cass | 52.14
| Chippewa | 141.07
| Chisago | 118.86
| Clay | 96.06
| Clearwater | 45.83
| Cook | 129.50
| Cottonwood | 149.98
| Crow Wing | 70.64
| Dakota | 154.93
| Dodge | 167.82
| Douglas | 84.01
| Faribault | 153.53
| Fillmore | 125.24
| Freeborn | 148.89
| Goodhue | 147.90
| Grant | 98.72
| Hennepin | 224.81
| Houston | 94.25
| Hubbard | 61.53
| Isanti | 101.66
| Itasca | 51.43
| Jackson | 166.80
| Kanabec | 62.65
| Kandiyohi | 131.21
| Kittson | 47.88
| Koochiching | 32.11
| Lac qui Parle | 119.74
| Lake | 89.68
| Lake of the Woods | 40.68
| Le Sueur | 151.44
| Lincoln | 105.85
| Lyon | 141.89
| McLeod | 55.55
| Mahnomen | 57.57
| Marshall | 167.45
| Martin | 147.01
| Meeker | 113.57
| Mille Lacs | 75.14
| Morrison | 75.72
| Mower | 163.46
| Murray | 154.07
| Nicollet | 177.14
| Nobles | 161.55
| Norman | 81.69
| Olmsted | 149.40
| Otter Tail | 68.39
| Pennington | 49.58
| Pine | 55.08
| Pipestone | 143.32
| Polk | 79.24
| Pope | 100.09
| Ramsey | 250.47
| Red Lake | 47.77
| Redwood | 172.67
| Renville | 165.30
| Rice | 156.46
| Rock | 191.92
| Roseau | 32.42
| St. Louis | 170.01
| Scott | 117.42
| Sherburne | 163.63
| Sibley | 51.32
| Stearns | 106.50
| Steele | 163.76
| Stevens | 121.96
| Swift | 139.67
| Todd | 64.53
| Traverse | 121.42
| Wabasha | 128.24
| Wadena | 48.70
| Waseca | 160.56
| Washington | 224.88
| Watonwan | 166.84
| Wilkin | 106.54
| Winona | 127.93
| Wright | 146.36
| Yellow Medicine | 124.96
Mississippi | Adams | 57.34
| Alcorn | 49.31
| Amite | 88.91
| Attala | 47.59
| Benton | 42.18
| Bolivar | 63.91
| Calhoun | 48.72
| Carroll | 49.64
| Chickasaw | 48.81
| Choctaw | 52.12
| Claiborne | 53.14
| Clarke | 62.29
| Clay | 43.30
| Coahoma | 66.65
| Copiah | 60.41
| Covington | 77.71
| DeSoto | 69.79
| Forrest | 90.26
| Franklin | 67.71
| George | 88.81
| Greene | 57.47
| Grenada | 48.29
| Hancock | 104.73
| Harrison | 163.78
| Hinds | 60.57
| Holmes | 55.42
| Humphreys | 58.36
| Issaquena | 50.66
| Itawamba | 53.04
| Jackson | 99.81
| Jasper | 52.78
| Jefferson | 55.98
| Jefferson Davis | 52.45
| Jones | 84.25
| Kemper | 45.91
| Lafayette | 59.25
| Lamar | 95.18
| Lauderdale | 63.08
| Lawrence | 71.04
| Leake | 70.74
| Lee | 50.53
| Leflore | 53.31
| Lincoln | 79.20
| Lowndes | 56.08
| Madison | 69.19
| Marion | 78.37
| Marshall | 52.12
| Monroe | 46.21
| Montgomery | 47.00
| Neshoba | 81.41
| Newton | 55.02
| Noxubee | 57.10
| Oktibbeha | 58.19
| Panola | 50.83
| Pearl River | 84.55
| Perry | 75.63
| Pike | 93.86
| Pontotoc | 48.05
| Prentiss | 41.45
| Quitman | 53.21
| Rankin | 79.00
| Scott | 66.78
| Sharkey | 60.57
| Simpson | 72.36
| Smith | 78.11
| Stone | 96.57
| Sunflower | 51.56
| Tallahatchie | 59.42
| Tate | 53.04
| Tippah | 43.00
| Tishomingo | 48.95
| Tunica | 71.37
| Union | 54.76
| Walthall | 79.07
| Warren | 49.61
| Washington | 56.18
| Wayne | 76.99
| Webster | 47.72
| Wilkinson | 59.38
| Winston | 57.40
| Yalobusha | 48.09
| Yazoo | 55.49
Missouri | Adair | 65.93
| Andrew | 95.63
| Atchison | 130.71
| Audrain | 102.75
| Barry | 68.21
| Barton | 56.59
| Bates | 60.95
| Benton | 56.18
| Bollinger | 54.13
| Boone | 97.95
| Buchanan | 92.77
| Butler | 85.58
| Caldwell | 61.16
| Callaway | 87.84
| Camden | 58.50
| Cape Girardeau | 84.21
| Carroll | 84.24
| Carter | 44.69
| Cass | 89.18
| Cedar | 48.99
| Chariton | 79.90
| Christian | 83.97
| Clark | 71.34
| Clay | 115.12
| Clinton | 92.14
| Cole | 78.29
| Cooper | 76.38
| Crawford | 55.91
| Dade | 58.94
| Dallas | 62.53
| Daviess | 74.83
| DeKalb | 75.74
| Dent | 43.08
| Douglas | 43.65
| Dunklin | 101.34
| Franklin | 100.07
| Gasconade | 65.89
| Gentry | 70.87
| Greene | 98.99
| Grundy | 61.89
| Harrison | 67.04
| Henry | 57.09
| Hickory | 52.18
| Holt | 102.12
| Howard | 68.21
| Howell | 50.60
| Iron | 43.28
| Jackson | 108.53
| Jasper | 62.84
| Jefferson | 91.60
| Johnson | 71.10
| Knox | 80.14
| Laclede | 59.14
| Lafayette | 113.57
| Lawrence | 68.88
| Lewis | 77.79
| Lincoln | 104.84
| Linn | 64.95
| Livingston | 78.39
| McDonald | 66.60
| Macon | 49.46
| Madison | 52.45
| Maries | 95.73
| Marion | 62.20
| Mercer | 59.64
| Miller | 59.71
| Mississippi | 111.63
| Moniteau | 72.51
| Monroe | 84.00
| Montgomery | 92.81
| Morgan | 71.13
| New Madrid | 119.22
| Newton | 69.29
| Nodaway | 87.40
| Oregon | 41.83
| Osage | 55.04
| Ozark | 43.65
| Pemiscot | 97.24
| Perry | 71.84
| Pettis | 73.55
| Phelps | 61.86
| Pike | 93.04
| Platte | 104.50
| Polk | 55.54
| Pulaski | 52.35
| Putnam | 55.44
| Ralls | 86.29
| Randolph | 70.70
| Ray | 73.39
| Reynolds | 39.31
| Ripley | 48.22
| St. Charles | 108.13
| St. Clair | 59.84
| Ste. Genevieve | 78.93
| St. Francois | 109.61
| St. Louis | 44.89
| Saline | 95.50
| Schuyler | 110.95
| Scotland | 113.98
| Scott | 44.52
| Shannon | 67.54
| Shelby | 61.96
| Stoddard | 118.08
| Stone | 63.68
| Sullivan | 49.93
| Taney | 52.72
| Texas | 44.12
| Vernon | 57.96
| Warren | 104.30
| Washington | 51.58
| Wayne | 41.06
| Webster | 70.23
| Worth | 60.58
| Wright | 48.32
Montana | Beaverhead | 23.98
| Big Horn | 9.49
| Blaine | 12.85
| Broadwater | 24.60
| Carbon | 25.32
| Carter | 11.56
| Cascade | 22.69
| Chouteau | 17.26
| Custer | 8.66
| Daniels | 11.10
| Dawson | 9.62
| Deer Lodge | 34.68
| Fallon | 9.44
| Fergus | 18.60
| Flathead | 107.39
| Gallatin | 56.83
| Garfield | 10.62
| Glacier | 14.68
| Golden Valley | 12.12
| Granite | 27.45
| Hill | 13.92
| Jefferson | 24.38
| Judith Basin | 19.19
| Lake | 34.36
| Lewis and Clark | 32.58
| Liberty | 13.06
| Lincoln | 80.70
| McCone | 26.94
| Madison | 10.32
| Meagher | 20.67
| Mineral | 95.65
| Missoula | 59.54
| Musselshell | 10.62
| Park | 54.89
| Petroleum | 9.44
| Phillips | 12.37
| Pondera | 17.45
| Powder River | 11.86
| Powell | 20.35
| Prairie | 12.12
| Ravalli | 104.44
| Richland | 12.85
| Roosevelt | 13.60
| Rosebud | 8.87
| Sanders | 25.54
| Sheridan | 12.74
| Silver Bow | 33.74
| Stillwater | 30.03
| Sweet Grass | 23.12
| Teton | 22.61
| Toole | 15.43
| Treasure | 10.81
| Valley | 10.67
| Wheatland | 11.02
| Wibaux | 10.05
| Yellowstone | 16.42
Nebraska | Adams | 131.64
| Antelope | 106.10
| Arthur | 10.54
| Banner | 19.21
| Blaine | 12.78
| Boone | 109.94
| Box Butte | 26.63
| Boyd | 34.30
| Brown | 17.87
| Buffalo | 93.23
| Burt | 130.11
| Butler | 123.41
| Cass | 144.48
| Cedar | 109.94
| Chase | 49.04
| Cherry | 13.25
| Cheyenne | 22.26
| Clay | 128.02
| Colfax | 131.98
| Cuming | 133.79
| Custer | 47.33
| Dakota | 119.70
| Dawes | 18.55
| Dawson | 77.48
| Deuel | 24.91
| Dixon | 103.45
| Dodge | 139.96
| Douglas | 155.08
| Dundy | 33.89
| Fillmore | 137.50
| Franklin | 74.05
| Frontier | 36.60
| Furnas | 58.40
| Gage | 87.08
| Garden | 15.25
| Garfield | 24.72
| Gosper | 78.95
| Grant | 13.78
| Greeley | 80.54
| Hall | 111.50
| Hamilton | 160.79
| Harlan | 76.89
| Hayes | 32.27
| Hitchcock | 32.18
| Holt | 52.19
| Hooker | 11.04
| Howard | 73.55
| Jefferson | 97.96
| Johnson | 63.48
| Kearney | 131.76
| Keith | 46.36
| Keya Paha | 19.33
| Kimball | 21.64
| Knox | 69.19
| Lancaster | 114.24
| Lincoln | 35.82
| Logan | 28.34
| Loup | 18.49
| McPherson | 120.16
| Madison | 11.16
| Merrick | 95.72
| Morrill | 23.01
| Nance | 85.24
| Nemaha | 101.46
| Nuckolls | 94.10
| Otoe | 107.13
| Pawnee | 64.54
| Perkins | 56.65
| Phelps | 112.34
| Pierce | 107.85
| Platte | 126.90
| Polk | 148.23
| Red Willow | 39.75
| Richardson | 95.10
| Rock | 26.88
| Saline | 120.16
| Sarpy | 148.63
| Saunders | 131.39
| Scotts Bluff | 46.58
| Seward | 125.50
| Sheridan | 17.27
| Sherman | 59.08
| Sioux | 14.28
| Stanton | 109.13
| Thayer | 102.83
| Thomas | 12.53
| Thurston | 125.93
| Valley | 55.09
| Washington | 150.25
| Wayne | 109.06
| Webster | 70.59
| Wheeler | 30.56
| York | 140.46
Nevada | Carson City | 52.73
| Churchill | 19.11
| Clark | 44.11
| Douglas | 22.67
| Elko | 3.89
| Esmeralda | 14.08
| Eureka | 5.08
| Humboldt | 7.79
| Lander | 5.84
| Lincoln | 22.85
| Lyon | 17.25
| Mineral | 3.37
| Nye | 16.81
| Pershing | 7.33
| Storey | 301.72
| Washoe | 6.40
| White Pine | 6.43
New Hampshire | Belknap | 140.36
| Carroll | 122.08
| Cheshire | 75.22
| Coos | 61.31
| Grafton | 76.41
| Hillsborough | 166.88
| Merrimack | 102.10
| Rockingham | 190.84
| Strafford | 126.00
| Sullivan | 101.17
New Jersey | Atlantic | 301.17
| Bergen | 1,030.31
| Burlington | 236.78
| Camden | 307.58
| Cape May | 281.95
| Cumberland | 196.42
| Essex | 1,551.58
| Gloucester | 291.11
| Hudson | 312.72
| Hunterdon | 400.94
| Mercer | 496.49
| Middlesex | 481.24
| Monmouth | 527.56
| Morris | 565.85
| Ocean | 377.59
| Passaic | 762.76
| Salem | 193.00
| Somerset | 501.07
| Sussex | 260.89
| Union | 3,082.26
| Warren | 250.08
New Mexico | Bernalillo | 21.62
| Catron | 8.15
| Chaves | 6.87
| Cibola | 5.96
| Colfax | 7.56
| Curry | 11.04
| De Baca | 4.72
| Dona Ana | 34.14
| Eddy | 8.54
| Grant | 7.15
| Guadalupe | 5.08
| Harding | 5.39
| Hidalgo | 4.72
| Lea | 6.46
| Lincoln | 6.75
| Los Alamos | 291.19
| Luna | 8.08
| McKinley | 6.01
| Mora | 10.59
| Otero | 8.01
| Quay | 6.39
| Rio Arriba | 13.80
| Roosevelt | 9.30
| Sandoval | 6.63
| San Juan | 7.20
| San Miguel | 9.97
| Santa Fe | 16.14
| Sierra | 5.46
| Socorro | 9.39
| Taos | 22.36
| Torrance | 6.94
| Union | 7.01
| Valencia | 17.98
New York | Albany | 82.40
| Allegany | 46.53
| Bronx | 69.13
| Broome | 69.73
| Cattaraugus | 50.29
| Cayuga | 85.49
| Chautauqua | 54.91
| Chemung | 64.01
| Chenango | 48.79
| Clinton | 53.84
| Columbia | 138.87
| Cortland | 50.69
| Delaware | 66.28
| Dutchess | 137.93
| Erie | 78.67
| Essex | 56.10
| Franklin | 44.67
| Fulton | 57.10
| Genesee | 70.00
| Greene | 99.35
| Hamilton | 48.46
| Herkimer | 51.25
| Jefferson | 43.61
| Kings | 21,072.41
| Lewis | 44.40
| Livingston | 77.04
| Madison | 54.31
| Monroe | 94.43
| Montgomery | 61.12
| Nassau | 487.46
| New York | 69.13
| Niagara | 60.96
| Oneida | 52.95
| Onondaga | 83.89
| Ontario | 85.69
| Orange | 147.24
| Orleans | 69.07
| Oswego | 53.78
| Otsego | 59.69
| Putnam | 145.38
| Queens | 136.34
| Rensselaer | 91.37
| Richmond | 4,688.08
| Rockland | 2,303.11
| St. Lawrence | 127.40
| Saratoga | 91.83
| Schenectady | 60.59
| Schoharie | 75.98
| Schuyler | 78.31
| Seneca | 37.69
| Steuben | 48.76
| Suffolk | 311.03
| Sullivan | 97.92
| Tioga | 52.32
| Tompkins | 73.32
| Ulster | 134.08
| Warren | 106.29
| Washington | 64.51
| Wayne | 65.91
| Westchester | 428.16
| Wyoming | 69.60
| Yates | 105.20
North Carolina | Alamance | 125.54
| Alexander | 158.39
| Alleghany | 127.87
| Anson | 99.18
| Ashe | 151.43
| Avery | 185.51
| Beaufort | 81.37
| Bertie | 71.95
| Bladen | 87.63
| Brunswick | 114.55
| Buncombe | 229.01
| Burke | 141.58
| Cabarrus | 195.03
| Caldwell | 147.00
| Camden | 75.65
| Carteret | 87.53
| Caswell | 76.61
| Catawba | 143.78
| Chatham | 132.09
| Cherokee | 152.99
| Chowan | 84.37
| Clay | 132.86
| Cleveland | 109.60
| Columbus | 80.74
| Craven | 82.37
| Cumberland | 83.10
| Currituck | 108.83
| Dare | 102.71
| Davidson | 163.41
| Davie | 164.48
| Duplin | 108.53
| Durham | 228.38
| Edgecombe | 70.12
| Forsyth | 221.22
| Franklin | 113.72
| Gaston | 161.41
| Gates | 92.66
| Graham | 160.45
| Granville | 109.36
| Greene | 103.84
| Guilford | 164.68
| Halifax | 63.13
| Harnett | 142.41
| Haywood | 168.64
| Henderson | 207.88
| Hertford | 63.70
| Hoke | 85.30
| Hyde | 65.50
| Iredell | 160.12
| Jackson | 257.10
| Johnston | 130.00
| Jones | 71.02
| Lee | 111.29
| Lenoir | 89.86
| Lincoln | 148.34
| McDowell | 203.18
| Macon | 144.14
| Madison | 75.05
| Martin | 153.59
| Mecklenburg | 548.24
| Mitchell | 140.35
| Montgomery | 109.13
| Moore | 141.78
| Nash | 101.51
| New Hanover | 378.91
| Northampton | 69.69
| Onslow | 101.67
| Orange | 178.19
| Pamlico | 76.61
| Pasquotank | 84.10
| Pender | 112.59
| Perquimans | 86.40
| Person | 101.11
| Pitt | 84.70
| Polk | 195.23
| Randolph | 127.60
| Richmond | 109.66
| Robeson | 78.21
| Rockingham | 107.70
| Rowan | 150.63
| Rutherford | 107.43
| Sampson | 105.83
| Scotland | 95.85
| Stanly | 136.89
| Stokes | 102.44
| Surry | 122.14
| Swain | 167.51
| Transylvania | 235.30
| Tyrrell | 67.76
| Union | 150.37
| Vance | 92.12
| Wake | 254.94
| Warren | 68.23
| Washington | 80.34
| Watauga | 198.99
| Wayne | 109.80
| Wilkes | 128.93
| Wilson | 101.64
| Yadkin | 140.25
| Yancey | 172.60
North Dakota | Adams | 22.02
| Barnes | 61.05
| Benson | 35.31
| Billings | 21.51
| Bottineau | 36.91
| Bowman | 20.56
| Burke | 22.91
| Burleigh | 38.45
| Cass | 78.26
| Cavalier | 51.97
| Dickey | 61.57
| Divide | 17.65
| Dunn | 24.93
| Eddy | 36.54
| Emmons | 32.17
| Foster | 51.02
| Golden Valley | 23.01
| Grand Forks | 57.40
| Grant | 25.20
| Griggs | 49.82
| Hettinger | 30.63
| Kidder | 25.27
| LaMoure | 59.07
| Logan | 27.93
| McHenry | 24.55
| McIntosh | 32.13
| McKenzie | 20.15
| McLean | 35.85
| Mercer | 26.02
| Morton | 27.93
| Mountrail | 24.86
| Nelson | 32.10
| Oliver | 27.90
| Pembina | 70.41
| Pierce | 28.07
| Ramsey | 38.04
| Ransom | 49.92
| Renville | 44.19
| Richland | 81.13
| Rolette | 30.70
| Sargent | 64.81
| Sheridan | 25.54
| Sioux | 24.41
| Slope | 23.29
| Stark | 37.08
| Steele | 50.54
| Stutsman | 47.70
| Towner | 35.03
| Traill | 79.25
| Walsh | 64.95
| Ward | 42.00
| Wells | 44.19
| Williams | 20.35
Ohio | Adams | 78.06
| Allen | 144.09
| Ashland | 124.83
| Ashtabula | 89.31
| Athens | 75.85
| Auglaize | 164.81
| Belmont | 91.18
| Brown | 98.24
| Butler | 159.39
| Carroll | 101.38
| Champaign | 146.13
| Clark | 140.10
| Clermont | 139.25
| Clinton | 135.33
| Columbiana | 132.57
| Coshocton | 93.54
| Crawford | 127.66
| Cuyahoga | 466.66
| Darke | 193.55
| Defiance | 122.24
| Delaware | 161.92
| Erie | 128.37
| Fairfield | 130.15
| Fayette | 149.24
| Franklin | 167.75
| Fulton | 151.52
| Gallia | 88.73
| Geauga | 193.45
| Greene | 163.96
| Guernsey | 78.30
| Hamilton | 198.60
| Hancock | 129.02
| Hardin | 133.28
| Harrison | 82.02
| Henry | 153.94
| Highland | 98.68
| Hocking | 97.76
| Holmes | 158.78
| Huron | 122.31
| Jackson | 64.43
| Jefferson | 75.13
| Knox | 130.32
| Lake | 205.89
| Lawrence | 66.57
| Licking | 133.45
| Logan | 135.77
| Lorain | 128.10
| Lucas | 157.55
| Madison | 138.87
| Mahoning | 135.46
| Marion | 130.15
| Medina | 173.51
| Meigs | 66.20
| Mercer | 214.17
| Miami | 155.51
| Monroe | 62.93
| Montgomery | 159.74
| Morgan | 65.52
| Morrow | 127.69
| Muskingum | 88.97
| Noble | 69.47
| Ottawa | 129.60
| Paulding | 132.19
| Perry | 98.85
| Pickaway | 130.69
| Pike | 86.62
| Portage | 141.67
| Preble | 143.34
| Putnam | 137.14
| Richland | 135.33
| Ross | 98.38
| Sandusky | 128.41
| Scioto | 76.70
| Seneca | 132.87
| Shelby | 162.33
| Stark | 150.36
| Summit | 230.47
| Trumbull | 109.29
| Tuscarawas | 104.48
| Union | 140.07
| Van Wert | 171.15
| Vinton | 66.20
| Warren | 194.98
| Washington | 72.98
| Wayne | 170.10
| Williams | 104.38
| Wood | 158.75
| Wyandot | 137.14
Oklahoma | Adair | 53.46
| Alfalfa | 38.40
| Atoka | 37.72
| Beaver | 18.03
| Beckham | 29.85
| Blaine | 32.15
| Bryan | 47.85
| Caddo | 36.14
| Canadian | 52.04
| Carter | 42.65
| Cherokee | 64.03
| Choctaw | 39.75
| Cimarron | 13.64
| Cleveland | 84.43
| Coal | 34.04
| Comanche | 37.32
| Cotton | 30.43
| Craig | 43.02
| Creek | 48.29
| Custer | 36.20
| Delaware | 62.65
| Dewey | 27.35
| Ellis | 21.55
| Garfield | 38.74
| Garvin | 42.69
| Grady | 43.50
| Grant | 36.88
| Greer | 23.13
| Harmon | 25.73
| Harper | 20.57
| Haskell | 40.90
| Hughes | 33.70
| Jackson | 27.05
| Jefferson | 27.32
| Johnston | 36.30
| Kay | 36.54
| Kingfisher | 36.81
| Kiowa | 25.97
| Latimer | 36.00
| Le Flore | 53.63
| Lincoln | 46.57
| Logan | 50.89
| Love | 46.74
| McClain | 30.33
| McCurtain | 45.19
| McIntosh | 57.07
| Major | 55.18
| Marshall | 47.08
| Mayes | 41.64
| Murray | 37.45
| Muskogee | 47.68
| Noble | 38.50
| Nowata | 44.78
| Okfuskee | 34.48
| Oklahoma | 83.72
| Okmulgee | 48.66
| Osage | 28.50
| Ottawa | 62.31
| Pawnee | 35.97
| Payne | 51.10
| Pittsburg | 36.78
| Pontotoc | 47.52
| Pottawatomie | 47.45
| Pushmataha | 30.73
| Roger Mills | 27.86
| Rogers | 66.56
| Seminole | 38.13
| Sequoyah | 54.10
| Stephens | 34.24
| Texas | 21.61
| Tillman | 27.12
| Tulsa | 98.21
| Wagoner | 65.58
| Washington | 45.19
| Washita | 32.39
| Woods | 29.31
| Woodward | 29.92
Oregon | Baker | 19.50
| Benton | 114.11
| Clackamas | 259.40
| Clatsop | 106.70
| Columbia | 105.65
| Coos | 62.03
| Crook | 17.48
| Curry | 65.54
| Deschutes | 134.93
| Douglas | 59.31
| Gilliam | 9.57
| Grant | 15.48
| Harney | 10.53
| Hood River | 365.46
| Jackson | 90.07
| Jefferson | 12.33
| Josephine | 193.36
| Klamath | 28.37
| Lake | 19.57
| Lane | 131.25
| Lincoln | 92.23
| Linn | 93.10
| Malheur | 22.58
| Marion | 152.77
| Morrow | 18.30
| Multnomah | 229.42
| Polk | 118.12
| Sherman | 11.47
| Tillamook | 120.38
| Umatilla | 31.40
| Union | 29.77
| Wallowa | 24.28
| Wasco | 14.47
| Washington | 180.25
| Wheeler | 12.45
| Yamhill | 176.24
Pennsylvania | Adams | 167.59
| Allegheny | 141.68
| Armstrong | 77.31
| Beaver | 129.31
| Bedford | 99.29
| Berks | 238.21
| Blair | 122.75
| Bradford | 99.59
| Bucks | 330.21
| Butler | 127.66
| Cambria | 88.13
| Cameron | 52.57
| Carbon | 176.06
| Centre | 145.64
| Chester | 351.46
| Clarion | 79.36
| Clearfield | 71.23
| Clinton | 145.58
| Columbia | 126.18
| Crawford | 75.90
| Cumberland | 209.54
| Dauphin | 122.12
| Delaware | 371.02
| Elk | 91.96
| Erie | 92.44
| Fayette | 89.31
| Forest | 64.74
| Franklin | 178.72
| Fulton | 97.85
| Greene | 80.87
| Huntingdon | 103.06
| Indiana | 75.26
| Jefferson | 69.81
| Juniata | 135.49
| Lackawanna | 131.59
| Lancaster | 336.90
| Lawrence | 110.38
| Lebanon | 284.03
| Lehigh | 223.96
| Luzerne | 120.70
| Lycoming | 114.69
| McKean | 55.46
| Mercer | 91.96
| Mifflin | 131.96
| Monroe | 211.36
| Montgomery | 377.84
| Montour | 147.43
| Northampton | 220.97
| Northumberland | 131.69
| Perry | 135.83
| Philadelphia | 1,219.14
| Pike | 49.34
| Potter | 73.91
| Schuylkill | 173.07
| Snyder | 156.50
| Somerset | 70.75
| Sullivan | 82.92
| Susquehanna | 109.68
| Tioga | 92.44
| Union | 144.97
| Venango | 83.16
| Warren | 63.09
| Washington | 122.55
| Wayne | 100.30
| Westmoreland | 127.93
| Wyoming | 107.86
| York | 202.95
Puerto Rico | All Areas | 174.11
Rhode Island | Bristol | 592.77
| Kent | 200.00
| Newport | 515.80
| Providence | 336.64
| Washington | 275.20
South Carolina | Abbeville | 73.78
| Aiken | 101.03
| Allendale | 58.79
| Anderson | 116.12
| Bamberg | 58.89
| Barnwell | 64.81
| Beaufort | 89.93
| Berkeley | 94.85
| Calhoun | 74.28
| Charleston | 165.74
| Cherokee | 80.62
| Chester | 74.97
| Chesterfield | 72.81
| Clarendon | 48.92
| Colleton | 71.72
| Darlington | 65.54
| Dillon | 69.19
| Dorchester | 91.46
| Edgefield | 78.60
| Fairfield | 74.21
| Florence | 58.89
| Georgetown | 62.58
| Greenville | 172.75
| Greenwood | 64.01
| Hampton | 63.74
| Horry | 80.19
| Jasper | 72.25
| Kershaw | 81.29
| Lancaster | 104.65
| Laurens | 90.10
| Lee | 60.22
| Lexington | 105.92
| McCormick | 61.88
| Marion | 57.66
| Marlboro | 46.99
| Newberry | 72.08
| Oconee | 141.11
| Orangeburg | 67.20
| Pickens | 148.22
| Richland | 93.35
| Saluda | 75.84
| Spartanburg | 131.97
| Sumter | 61.68
| Union | 58.56
| Williamsburg | 55.47
| York | 133.77
South Dakota | Aurora | 64.36
| Beadle | 78.05
| Bennett | 15.40
| Bon Homme | 79.59
| Brookings | 116.14
| Brown | 79.52
| Brule | 62.07
| Buffalo | 32.23
| Butte | 16.86
| Campbell | 34.75
| Charles Mix | 64.12
| Clark | 69.06
| Clay | 120.54
| Codington | 73.15
| Corson | 17.82
| Custer | 31.24
| Davison | 92.46
| Day | 52.09
| Deuel | 80.44
| Dewey | 15.60
| Douglas | 77.78
| Edmunds | 59.76
| Fall River | 14.04
| Faulk | 53.01
| Grant | 81.56
| Gregory | 33.29
| Haakon | 16.39
| Hamlin | 97.37
| Hand | 51.99
| Hanson | 102.07
| Harding | 11.45
| Hughes | 53.49
| Hutchinson | 89.60
| Hyde | 37.89
| Jackson | 21.67
| Jerauld | 53.63
| Jones | 19.83
| Kingsbury | 90.45
| Lake | 111.24
| Lawrence | 38.67
| Lincoln | 148.27
| Lyman | 27.32
| McCook | 60.92
| McPherson | 115.77
| Marshall | 41.70
| Meade | 18.36
| Mellette | 19.49
| Miner | 87.56
| Minnehaha | 140.26
| Moody | 138.83
| Pennington | 19.04
| Perkins | 14.65
| Potter | 54.48
| Roberts | 68.99
| Sanborn | 64.80
| Shannon | 12.54
| Spink | 81.12
| Stanley | 25.01
| Sully | 42.52
| Todd | 13.93
| Tripp | 30.46
| Turner | 117.64
| Union | 136.62
| Walworth | 40.37
| Yankton | 112.91
| Ziebach | 12.95
Tennessee | Anderson | 159.41
| Bedford | 104.02
| Benton | 61.01
| Bledsoe | 95.44
| Blount | 185.40
| Bradley | 148.04
| Campbell | 101.70
| Cannon | 84.31
| Carroll | 66.69
| Carter | 142.57
| Cheatham | 116.23
| Chester | 52.47
| Claiborne | 83.46
| Clay | 75.64
| Cocke | 99.83
| Coffee | 96.36
| Crockett | 77.20
| Cumberland | 103.64
| Davidson | 169.34
| Decatur | 58.52
| DeKalb | 87.34
| Dickson | 90.61
| Dyer | 68.25
| Fayette | 85.51
| Fentress | 87.31
| Franklin | 106.09
| Gibson | 84.11
| Giles | 79.96
| Grainger | 103.50
| Greene | 110.31
| Grundy | 77.95
| Hamblen | 127.46
| Hamilton | 153.90
| Hancock | 62.54
| Hardeman | 69.51
| Hardin | 68.90
| Hawkins | 95.88
| Haywood | 98.20
| Henderson | 60.09
| Henry | 75.64
| Hickman | 65.16
| Houston | 61.76
| Humphreys | 77.41
| Jackson | 78.77
| Jefferson | 146.99
| Johnson | 129.67
| Knox | 208.78
| Lake | 89.59
| Lauderdale | 85.13
| Lawrence | 72.10
| Lewis | 70.84
| Lincoln | 91.77
| Loudon | 147.60
| McMinn | 93.19
| McNairy | 68.59
| Macon | 80.10
| Madison | 82.14
| Marion | 99.32
| Marshall | 111.53
| Maury | 58.73
| Meigs | 95.81
| Monroe | 122.69
| Montgomery | 117.32
| Moore | 96.02
| Morgan | 93.30
| Obion | 86.73
| Overton | 88.47
| Perry | 53.93
| Pickett | 79.07
| Polk | 121.67
| Putnam | 117.83
| Rhea | 95.24
| Roane | 138.41
| Robertson | 132.53
| Rutherford | 132.77
| Scott | 76.86
| Sequatchie | 88.09
| Sevier | 161.31
| Shelby | 124.84
| Smith | 72.34
| Stewart | 71.55
| Sullivan | 150.43
| Sumner | 132.39
| Tipton | 80.78
| Trousdale | 104.90
| Unicoi | 150.02
| Union | 78.60
| Van Buren | 101.29
| Warren | 97.14
| Washington | 174.69
| Wayne | 54.81
| Weakley | 81.01
| White | 102.52
| Williamson | 200.78
| Wilson | 120.65
Texas | Anderson | 63.47
| Andrews | 8.50
| Angelina | 81.92
| Aransas | 44.20
| Archer | 25.52
| Armstrong | 27.27
| Atascosa | 50.82
| Austin | 106.02
| Bailey | 20.89
| Bandera | 69.89
| Bastrop | 96.97
| Baylor | 26.95
| Bee | 48.42
| Bell | 79.46
| Bexar | 111.08
| Blanco | 122.65
| Borden | 15.18
| Bosque | 62.79
| Bowie | 58.86
| Brazoria | 78.77
| Brazos | 97.84
| Brewster | 12.16
| Briscoe | 21.63
| Brooks | 27.57
| Brown | 53.09
| Burleson | 74.53
| Burnet | 86.23
| Caldwell | 85.78
| Calhoun | 45.53
| Callahan | 39.18
| Cameron | 76.21
| Camp | 67.52
| Carson | 23.87
| Cass | 53.45
| Castro | 28.47
| Chambers | 51.79
| Cherokee | 64.08
| Childress | 19.94
| Clay | 40.93
| Cochran | 17.45
| Coke | 27.11
| Coleman | 39.24
| Collin | 137.57
| Collingsworth | 21.60
| Colorado | 85.84
| Comal | 136.14
| Comanche | 62.30
| Concho | 41.06
| Cooke | 84.77
| Coryell | 63.11
| Cottle | 16.05
| Crane | 15.31
| Crockett | 16.35
| Crosby | 22.18
| Culberson | 8.89
| Dallam | 24.45
| Dallas | 119.64
| Dawson | 20.46
| Deaf Smith | 25.65
| Delta | 47.38
| Denton | 158.55
| DeWitt | 67.78
| Dickens | 19.00
| Dimmit | 40.44
| Donley | 27.96
| Duval | 33.86
| Eastland | 51.57
| Ector | 12.55
| Edwards | 32.59
| Ellis | 50.27
| El Paso | 82.54
| Erath | 83.41
| Falls | 50.53
| Fannin | 66.45
| Fayette | 109.88
| Fisher | 28.09
| Floyd | 29.71
| Foard | 19.17
| Fort Bend | 106.24
| Franklin | 74.43
| Freestone | 54.48
| Frio | 52.99
| Gaines | 25.17
| Galveston | 93.50
| Garza | 18.00
| Gillespie | 110.52
| Glasscock | 23.22
| Goliad | 53.64
| Gonzales | 83.83
| Gray | 23.03
| Grayson | 97.49
| Gregg | 100.70
| Grimes | 100.28
| Guadalupe | 93.27
| Hale | 30.74
| Hall | 20.01
| Hamilton | 64.41
| Hansford | 24.00
| Hardeman | 22.70
| Hardin | 80.23
| Harris | 138.61
| Harrison | 73.81
| Hartley | 26.07
| Haskell | 19.20
| Hays | 160.86
| Hemphill | 19.20
| Henderson | 77.28
| Hidalgo | 78.81
| Hill | 58.44
| Hockley | 26.92
| Hood | 105.98
| Hopkins | 57.44
| Houston | 58.21
| Howard | 19.69
| Hudspeth | 14.59
| Hunt | 79.29
| Hutchinson | 19.78
| Irion | 24.36
| Jack | 50.75
| Jackson | 54.84
| Jasper | 81.69
| Jeff Davis | 12.45
| Jefferson | 43.00
| Jim Hogg | 34.64
| Jim Wells | 47.41
| Johnson | 105.79
| Jones | 28.86
| Karnes | 67.39
| Kaufman | 88.18
| Kendall | 124.21
| Kenedy | 17.06
| Kent | 22.15
| Kerr | 68.33
| Kimble | 45.99
| King | 15.76
| Kinney | 31.20
| Kleberg | 48.87
| Knox | 20.04
| Lamar | 50.66
| Lamb | 56.11
| Lampasas | 30.03
| La Salle | 65.15
| Lavaca | 76.05
| Lee | 82.99
| Leon | 65.02
| Liberty | 64.99
| Limestone | 49.07
| Lipscomb | 20.95
| Live Oak | 49.72
| Llano | 70.18
| Loving | 5.16
| Lubbock | 48.06
| Lynn | 23.35
| McCulloch | 72.61
| McLennan | 57.69
| McMullen | 26.79
| Madison | 61.42
| Marion | 51.44
| Martin | 30.58
| Mason | 48.06
| Matagorda | 67.23
| Maverick | 36.45
| Medina | 67.39
| Menard | 37.85
| Midland | 37.17
| Milam | 92.91
| Mills | 57.66
| Mitchell | 20.46
| Montague | 64.86
| Montgomery | 153.20
| Moore | 24.36
| Morris | 54.48
| Motley | 19.13
| Nacogdoches | 65.41
| Navarro | 53.25
| Newton | 51.99
| Nolan | 29.16
| Nueces | 40.18
| Ochiltree | 25.98
| Oldham | 15.31
| Orange | 86.20
| Palo Pinto | 62.46
| Panola | 54.52
| Parker | 130.05
| Parmer | 26.98
| Pecos | 13.17
| Polk | 70.89
| Potter | 14.20
| Presidio | 11.97
| Rains | 65.45
| Randall | 26.04
| Reagan | 12.62
| Real | 38.33
| Red River | 43.13
| Reeves | 6.97
| Refugio | 23.67
| Roberts | 17.06
| Robertson | 62.11
| Rockwall | 151.42
| Runnels | 33.57
| Rusk | 56.72
| Sabine | 70.50
| San Augustine | 59.93
| San Jacinto | 73.55
| San Patricio | 41.45
| San Saba | 63.24
| Schleicher | 24.03
| Scurry | 22.05
| Shackelford | 28.34
| Shelby | 75.95
| Sherman | 27.96
| Smith | 98.23
| Somervell | 101.02
| Starr | 45.92
| Stephens | 36.29
| Sterling | 13.69
| Stonewall | 18.65
| Sutton | 24.49
| Swisher | 23.90
| Tarrant | 164.46
| Taylor | 29.38
| Terrell | 10.09
| Terry | 29.54
| Throckmorton | 31.10
| Titus | 66.81
| Tom Green | 29.58
| Travis | 99.56
| Trinity | 60.13
| Tyler | 75.86
| Upshur | 74.27
| Upton | 15.24
| Uvalde | 51.86
| Val Verde | 14.79
| Van Zandt | 82.80
| Victoria | 59.48
| Walker | 86.36
| Waller | 162.02
| Ward | 9.60
| Washington | 143.96
| Webb | 28.09
| Wharton | 65.93
| Wheeler | 21.31
| Wichita | 30.94
| Wilbarger | 25.94
| Willacy | 47.41
| Williamson | 100.80
| Wilson | 77.51
| Winkler | 9.40
| Wise | 98.98
| Wood | 74.01
| Yoakum | 20.98
| Young | 35.90
| Zapata | 30.32
| Zavala | 39.83
Utah | Beaver | 21.23
| Box Elder | 12.78
| Cache | 37.51
| Carbon | 12.94
| Daggett | 22.71
| Davis | 68.93
| Duchesne | 8.85
| Emery | 18.07
| Garfield | 24.17
| Grand | 6.15
| Iron | 20.05
| Juab | 12.76
| Kane | 14.99
| Millard | 14.94
| Morgan | 16.74
| Piute | 31.16
| Rich | 10.70
| Salt Lake | 50.30
| San Juan | 3.97
| Sanpete | 22.88
| Sevier | 32.09
| Summit | 24.25
| Tooele | 12.69
| Uintah | 6.72
| Utah | 56.67
| Wasatch | 40.58
| Washington | 38.87
| Wayne | 42.92
| Weber | 61.90
Vermont | Addison | 81.58
| Bennington | 111.93
| Caledonia | 85.30
| Chittenden | 115.18
| Essex | 49.92
| Franklin | 75.08
| Grand Isle | 102.01
| Lamoille | 97.69
| Orange | 83.02
| Orleans | 65.20
| Rutland | 72.83
| Washington | 107.54
| Windham | 107.14
| Windsor | 101.71
Virginia | Accomack | 99.08
| Albemarle | 236.72
| Alleghany | 84.01
| Amelia | 82.86
| Amherst | 98.57
| Appomattox | 76.98
| Arlington | 1,453.48
| Augusta | 169.14
| Bath | 112.63
| Bedford | 119.76
| Bland | 87.19
| Botetourt | 118.14
| Brunswick | 56.43
| Buchanan | 71.44
| Buckingham | 83.20
| Campbell | 80.70
| Caroline | 111.59
| Carroll | 92.09
| Charles City | 101.55
| Charlotte | 61.40
| Chesterfield | 117.74
| Clarke | 144.06
| Craig | 213.03
| Culpeper | 85.70
| Cumberland | 174.37
| Dickenson | 96.99
| Dinwiddie | 80.23
| Essex | 81.17
| Fairfax | 82.32
| Fauquier | 409.74
| Floyd | 214.52
| Fluvanna | 97.93
| Franklin | 137.81
| Frederick | 95.80
| Giles | 159.57
| Gloucester | 71.44
| Goochland | 135.92
| Grayson | 147.54
| Greene | 113.41
| Greensville | 186.00
| Halifax | 54.85
| Hanover | 62.11
| Henrico | 150.48
| Henry | 177.82
| Highland | 72.99
| Isle of Wight | 91.38
| James City | 96.14
| King and Queen | 236.99
| King George | 83.50
| King William | 136.05
| Lancaster | 100.94
| Lee | 123.78
| Loudoun | 59.54
| Louisa | 323.81
| Lunenburg | 154.71
| Madison | 64.34
| Mathews | 170.76
| Mecklenburg | 167.41
| Middlesex | 69.61
| Montgomery | 104.22
| Nelson | 131.86
| New Kent | 123.85
| Northampton | 149.37
| Northumberland | 116.76
| Nottoway | 81.14
| Orange | 84.35
| Page | 182.38
| Patrick | 159.00
| Pittsylvania | 90.19
| Powhatan | 65.69
| Prince Edward | 154.87
| Prince George | 86.58
| Prince William | 113.61
| Pulaski | 238.65
| Rappahannock | 83.10
| Richmond | 228.24
| Roanoke | 77.93
| Rockbridge | 115.57
| Rockingham | 116.15
| Russell | 190.73
| Scott | 58.70
| Shenandoah | 56.13
| Smyth | 150.85
| Southampton | 75.39
| Spotsylvania | 72.11
| Stafford | 165.72
| Surry | 247.84
| Sussex | 122.23
| Tazewell | 96.82
| Warren | 61.57
| Washington | 59.88
| Westmoreland | 143.76
| Wise | 192.96
| Wythe | 106.41
| York | 96.68
| Chesapeake City | 74.51
| Suffolk | 91.55
| Virginia Beach City | 134.94
Washington | Adams | 20.43
| Asotin | 14.13
| Benton | 45.43
| Chelan | 145.38
| Clallam | 206.84
| Clark | 209.97
| Columbia | 17.86
| Cowlitz | 144.26
| Douglas | 16.91
| Ferry | 7.05
| Franklin | 48.58
| Garfield | 15.72
| Grant | 56.88
| Grays Harbor | 34.89
| Island | 236.26
| Jefferson | 151.62
| King | 355.68
| Kitsap | 438.89
| Kittitas | 73.37
| Klickitat | 23.65
| Lewis | 104.45
| Lincoln | 18.46
| Mason | 137.66
| Okanogan | 22.01
| Pacific | 57.36
| Pend Oreille | 50.68
| Pierce | 236.03
| San Juan | 219.52
| Skagit | 125.88
| Skamania | 168.71
| Snohomish | 266.42
| Spokane | 47.19
| Stevens | 26.10
| Thurston | 144.19
| Wahkiakum | 77.87
| Walla Walla | 34.62
| Whatcom | 191.74
| Whitman | 23.19
| Yakima | 29.91
West Virginia | Barbour | 53.23
| Berkeley | 156.75
| Boone | 47.27
| Braxton | 44.51
| Brooke | 53.02
| Cabell | 81.61
| Calhoun | 41.42
| Clay | 50.98
| Doddridge | 51.25
| Fayette | 66.91
| Gilmer | 40.09
| Grant | 64.73
| Greenbrier | 77.25
| Hampshire | 98.05
| Hancock | 79.84
| Hardy | 77.25
| Harrison | 57.69
| Jackson | 60.10
| Jefferson | 187.11
| Kanawha | 58.94
| Lewis | 53.60
| Lincoln | 55.03
| Logan | 53.06
| McDowell | 58.67
| Marion | 59.86
| Marshall | 57.55
| Mason | 65.31
| Mercer | 60.51
| Mineral | 81.85
| Mingo | 38.59
| Monongalia | 84.13
| Monroe | 62.14
| Morgan | 121.70
| Nicholas | 69.49
| Ohio | 62.96
| Pendleton | 63.33
| Pleasants | 52.61
| Pocahontas | 59.93
| Preston | 67.18
| Putnam | 69.60
| Raleigh | 67.72
| Randolph | 49.42
| Ritchie | 43.53
| Roane | 46.73
| Summers | 59.83
| Taylor | 67.55
| Tucker | 83.28
| Tyler | 49.99
| Upshur | 63.16
| Wayne | 51.18
| Webster | 59.73
| Wetzel | 49.72
| Wirt | 44.72
| Wood | 63.50
| Wyoming | 56.43
Wisconsin | Adams | 103.71
| Ashland | 49.23
| Barron | 74.83
| Bayfield | 54.31
| Brown | 145.05
| Buffalo | 89.97
| Burnett | 65.74
| Calumet | 147.59
| Chippewa | 72.93
| Clark | 83.59
| Columbia | 134.82
| Crawford | 72.36
| Dane | 161.96
| Dodge | 143.18
| Door | 108.82
| Douglas | 46.46
| Dunn | 88.67
| Eau Claire | 80.28
| Florence | 83.29
| Fond du Lac | 133.72
| Forest | 55.04
| Grant | 111.29
| Green | 116.97
| Green Lake | 121.49
| Iowa | 106.71
| Iron | 61.70
| Jackson | 82.68
| Jefferson | 138.60
| Juneau | 82.32
| Kenosha | 134.69
| Kewaunee | 116.34
| La Crosse | 89.44
| Lafayette | 130.88
| Langlade | 74.03
| Lincoln | 66.07
| Manitowoc | 141.14
| Marathon | 77.97
| Marinette | 81.15
| Marquette | 91.67
| Menominee | 34.36
| Milwaukee | 252.90
| Monroe | 85.73
| Oconto | 87.50
| Oneida | 112.03
| Outagamie | 140.94
| Ozaukee | 149.93
| Pepin | 87.86
| Pierce | 105.81
| Polk | 76.23
| Portage | 88.03
| Price | 50.83
| Racine | 145.72
| Richland | 80.51
| Rock | 147.66
| Rusk | 54.44
| St. Croix | 103.77
| Sauk | 61.29
| Sawyer | 96.05
| Shawano | 140.17
| Sheboygan | 112.36
| Taylor | 58.52
| Trempealeau | 85.49
| Vernon | 88.27
| Vilas | 143.11
| Walworth | 164.00
| Washburn | 66.37
| Washington | 155.94
| Waukesha | 174.53
| Waupaca | 102.70
| Waushara | 92.48
| Winnebago | 112.40
| Wood | 84.15
Wyoming | Albany | 9.61
| Big Horn | 26.11
| Campbell | 9.89
| Carbon | 9.61
| Converse | 6.45
| Crook | 15.17
| Fremont | 14.87
| Goshen | 13.29
| Hot Springs | 11.94
| Johnson | 10.38
| Laramie | 12.29
| Lincoln | 30.77
| Natrona | 10.66
| Niobrara | 9.17
| Park | 23.95
| Platte | 12.29
| Sheridan | 14.08
| Sublette | 22.99
| Sweetwater | 3.46
| Teton | 54.38
| Uinta | 12.56
| Washakie | 15.17
| Weston | 7.99
¹ This notice does not provide an updated fee schedule for projects occupying federal lands in the State of Alaska. Notice of those fees will be provided upon Commission action in Annual Charges for the Use of Government Lands in Alaska, Notice of Inquiry (NOI) Docket No. RM16-19-000, 157 FERC ¶ 61,117 (November 17, 2016).

[FR Doc. 2017-04236 Filed 3-6-17; 8:45 am]

BILLING CODE 6717-01-P